INTERNATIONAL TRADE COMMISSION

[Investigation Nos. 731-TA-1575 and 731-TA-1577 (Final)]

Emulsion Styrene-Butadiene Rubber From Czechia and Russia

Determinations

On the basis of the record ¹ developed in the subject investigations, the United States International Trade Commission (“Commission”) determines, pursuant to the Tariff Act of 1930 (“the Act”), that an industry in the United States is not materially injured or threatened with material injury, and the establishment of an industry in the United States is not materially retarded by reason of imports of emulsion styrene-butadiene rubber (“ESBR”) from Czechia and Russia, provided for in statistical reporting numbers 4002.19.0015 and 4002.19.0019 of the Harmonized Tariff Schedule of the United States, that have been found by the U.S. Department of Commerce (“Commerce”) to be sold in the United States at less than fair value (“LTFV”).² ³

¹ The record is defined in § 207.2(f) of the Commission's Rules of Practice and Procedure (19 CFR 207.2(f)).

² 87 FR 68998 and 69002, November 17, 2022.

³ Commissioner Randolph J. Stayin not participating.

Background

The Commission instituted these investigations effective November 15, 2021, following receipt of petitions filed with the Commission and Commerce by Lion Elastomers LLC (Port Neches, Texas). The Commission scheduled the final phase of the investigations following notification of preliminary determinations by Commerce that imports of ESBR from Czechia and Russia were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of July 15, 2022 (87 FR 42498). The Commission conducted its hearing on November 8, 2022. All persons who requested the opportunity were permitted to participate.

The Commission made these determinations pursuant to § 735(b) of the Act (19 U.S.C. 1673d(b)). It completed and filed its determinations in these investigations on December 27, 2022. The views of the Commission are contained in USITC Publication 5392 (January 2023), entitled Emulsion Styrene-Butadiene Rubber from Czechia and Russia: Investigation Nos. 731-TA-1575 and 731-TA-1577 (Final).

By order of the Commission.
Issued: January 4, 2023.
Katherine Hiner,
Acting Secretary to the Commission.

[FR Doc. 2023-00145 Filed 1-6-23; 8:45 am]

BILLING CODE 7020-02-P